DEPARTMENT OF HEALTH AND HUMAN SERVICES

Centers for Disease Control and Prevention

[60Day-12-12GN]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 and send comments to Ron Otten, CDC at 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

ROPS Attributes Identified by Distribution Channel Intermediaries—New—National Institute for Occupational Safety and Health (NIOSH), Centers for Disease Control and Prevention (CDC).

Background and Brief Description

It is commonly acknowledged that it is in the public interest to develop more effective ways of determining the incentives, impediments and barriers to the adoption of items of safety equipment that are known to be effective in reducing occupational traumatic injury and death.

Despite the development of rollover protective structures (ROPS), an item of safety equipment which has proven preventive effectiveness against the leading cause of occupational fatality in the Agricultural, Forestry and Fishing industrial sector (tractor rollovers), the incidence of fatal and nonfatal traumatic occupational injury within the sector remains elevated. Tractor rollovers remain the leading cause of fatal injury in this sector, occurring at a rate of 5.4 per every 100,000 workers (NSC). Some 125 fatalities occurred each year from this cause, for the years 1992-2002; both fatal injuries and nonfatal injuries were overwhelmingly associated with the use of tractors that were not protected by ROPS.

The efficacy of rollover protective structures in preventing injury and death from crushing injuries is well established. Various research efforts have been undertaken over a period of time and in international venues, especially the Scandinavian countries, to confirm the role of ROPS in preventing injury from this source. As a result of these studies, the efficacy of ROPS in preventing this type of injury was widely accepted by manufacturers internationally and in this country. Beginning in the mid-1980's, manufacturers of farm tractors in this country universally elected to protect tractor operators through the incorporation of integral ROPS within the design and manufacture of all new farm tractors sold for domestic use. However, significant numbers of older, unprotected farm tractors remain in use. ROPS are available for many of these unprotected tractors, as a retrofit item manufactured by fabricators or by original equipment manufacturers. However, a number of tractors remain in operation without rollover protective structures, and operators of these tractors are at an elevated risk of injury.

ROPS are generally provided to end users by tractor parts dealers, who constitute channel intermediaries between the manufacturer and the consumer. However, little is known about the decision processes that tractor parts dealers follow in deciding whether or not to recommend, source or provide this item of safety equipment to end users. The current project will generate ranking scores for the importance accorded to various issues of concern to tractor parts dealers; these most-important items were previously developed through qualitative research studies. The Northeast Equipment Dealers' Association (NEDA), a trade group representing tractor parts dealers, and which is active in 12 Northeast and Mid-Atlantic U.S. States, will represent the collective membership of the distribution channel intermediaries. Some 500 establishments hold membership in NEDA, and each of these establishments will be surveyed to provide ranking criteria.

CDC requests OMB approval to collect customized information, from 500 NEDA establishments, over a one-month period. This information will be of two kinds: Demographic information on the client base served by the NEDA establishment, and importance ranking of issues related to the provision of ROPS or the ROPS configuration itself, as self-selected ranking criteria, following the maximum difference scaling methodology.

This information will allow CDC to compile a systematic, quantifiable inventory of preference data for a group that is considered representative of tractor parts dealers nationwide. Additionally, this data will allow for segmentation of response by groups with particularized interests.

The survey pilot questionnaire will be administered by the New York Center for Agricultural Medicine and Health (NYCAMH). Following the administration of a pilot test questionnaire to assess comprehension and message comprehension, a finalized questionnaire will be routinely submitted to NEDA establishments by electronic mail. The estimated burden per response is 17 minutes. Each respondent establishment will receive a personalized advance notification email, followed by an email with a link to the CDC Web site.

CDC anticipates that routine information collection will begin in August 2012. Assuming full participation, the total estimated burden for the one-time retrospective data collection is 148 hours which includes 500 respondents for the survey and 20 respondents from the pilot project. At a reduced response rate of 80%, total burden would be 450 participants for a total of 134 hours, assuming replacement and thus full participation for pilot participants. There are no costs to respondents other than their time.

Estimated Annualized Burden Hours
Type of respondents | Form name | No. of respondents | No. of responses per respondent | Avg. burden per response (in hrs) | Total burden (in hrs)
Tractor parts dealers | NIOSH/NYCAMH Parts Dealers Survey | 450 | 1 | 17/60 | 128
Tractor parts dealers | NIOSH/NYCAMH Parts Dealers Pilot | 20 | 1 | 17/60 | 6
Total |  |  |  |  | 134

Dated: March 19, 2012.
Ron A. Otten,
Director, Office of Scientific Integrity, Office of the Associate Director for Science (OADS), Office of the Director, Centers for Disease Control and Prevention.

[FR Doc. 2012-7030 Filed 3-22-12; 8:45 am]

BILLING CODE 4163-18-P